DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop, and provide recommendations on all aspects of the academic and administrative policies of the University; examine all aspects of professional military education operations; and provide such oversight and advice, as is necessary, to facilitate high educational standards and cost effective operations. The Board will be focusing primarily on the University's curriculum review process and reorganization efforts. The Board will be apprised of recent developments at Marine Corps University, including facilities development and the results of the Southern Association of Colleges and Schools Off-Site Committee Report. All sessions of the meeting will be open to the public.

DATES: The meetings will be held on Tuesday, April 19, 2005, from 8 a.m. to 4 p.m. and on Wednesday, April 20, 2005, from 8 a.m. to 11:30 a.m.

ADDRESSES: The meetings will be held at the Alfred M. Gray Marine Corps Research Center, 2040 Broadway Street, Rooms 164 and 165, Quantico, VA 22134.

FOR FURTHER INFORMATION CONTACT: Mary Lanzillotta, Executive Secretary, Marine Corps University Board of Visitors, 2076 South Street, Quantico, VA 22134, telephone 703-784-4037.

Dated: March 28, 2005.
I.C. Le Moyne Jr.,
Lieutenant, Judge Advocate General's Corps, U.S. Navy, Alternate Federal Register Liaison Officer.

[FR Doc. 05-6665 Filed 4-4-05; 8:45 am]

BILLING CODE 3810-FF-P